DEPARTMENT OF THE TREASURY

Agency Information Collection Activities; Submission for OMB Review; Comment Request; IRS Taxpayer Burden Surveys

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 7, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

Title: IRS Taxpayer Burden Surveys.

OMB Control Number: 1545-2212.

Type of Review: Revision of a currently approved collection.

Abstract: The IRS is developing improved methods for measuring, estimating, and modeling taxpayer burden. The data collected from this survey of individual taxpayers will be used as an input to a micro-simulation model that estimates taxpayer burden. The IRS will also publish the relevant updated burden estimates in tax form instructions to inform taxpayers. Three types of questions will be asked: Questions framing the activities to be measured, burden measurement questions, and questions to better inform taxpayer needs related to their compliance burden.

The information collected via the IRS Burden Surveys will be used by IRS to support or achieve several important goals:

1. Fulfill its mission to provide top quality service to taxpayers

2. Better understand taxpayer time and out-of-pocket burden

3. Improve the accuracy and comparability of the information collection budget estimates it provides under the Paperwork Reduction Act (44 U.S.C. 3501 et seq.)

4. Provide data to be used in micro-simulation models to allow estimation of the impact of proposed legislation on taxpayer burden before the legislation is enacted

5. Support ongoing analysis of the role of compliance costs in influencing taxpayer behavior and identifying taxpayer needs

6. Provide information to the Executives and Operating Divisions for assessing the impact of programs on taxpayer burden

7. Support tax analysis in the Treasury Department Offices

8. Assist the IRS in evaluating the effectiveness and associated impact on taxpayer costs and behavior of the following IRS initiatives: Return preparer e-file initiative, Return preparer regulation initiative, and Tax package mailing cost reduction initiative

Forms: 2018 Business Taxpayer Burden Survey.

Affected Public: Individuals or Households.

Estimated Total Annual Burden Hours: 17,550.

Authority: 44 U.S.C. 3501 et seq.

Dated: April 2, 2018.
Jennifer P. Quintana,
Treasury PRA Clearance Officer.

[FR Doc. 2018-06972 Filed 4-4-18; 8:45 am]

BILLING CODE 4830-01-P